ENVIRONMENTAL PROTECTION AGENCY

40 CFR Part 147

[EPA-HQ-OW-2015-0372; FRL 9953-36-OW]

Commonwealth of Kentucky Underground Injection Control (UIC) Class II Program; Primacy Approval

AGENCY: Environmental Protection Agency (EPA).

ACTION: Proposed rule.

SUMMARY: The U.S. Environmental Protection Agency (EPA) proposes to approve the Commonwealth of Kentucky Underground Injection Control (UIC) Class II Program for primacy. The EPA determined that the state's program is consistent with the provisions of the Safe Drinking Water Act (SDWA) at section 1425 to prevent underground injection activities that endanger underground sources of drinking water. The agency's approval allows the state to implement and enforce state regulations for UIC Class II injection wells only located within the state. The Commonwealth's authority excludes the regulation of injection well Classes I, III, IV, V and VI and all wells on Indian lands, as required by rule under the SDWA. The agency requests public comment on this proposed rule and supporting documentation. In the “Rules and Regulations” section of this Federal Register, the agency published EPA's approval of the state's program as a direct final rule without a prior proposed rule. If the agency receives no adverse comment, EPA will not take further action on this proposed rule.

DATES: Written comments must be received by November 28, 2016.

ADDRESSES: Submit your comments, identified by Docket ID No. EPA-HQ-OW-2015-0372, at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Holly S. Green, Drinking Water Protection Division, Office of Ground Water and Drinking Water (4606M), U.S. Environmental Protection Agency, 1200 Pennsylvania Ave. NW., Washington, DC 20460; telephone number: (202) 566-0651; fax number: (202) 564-3754; email address: green.holly@epa.gov; or Nancy H. Marsh, Safe Drinking Water Branch, U.S. Environmental Protection Agency, Region 4, 61 Forsyth Street SW., Atlanta, Georgia 30303; telephone number (404) 562-9450; fax number: (404) 562-9439; email address: marsh.nancy@epa.gov.

SUPPLEMENTARY INFORMATION:

Why is EPA issuing this proposed rule?

The EPA proposes to approve the Commonwealth of Kentucky's UIC Program primacy application for Class II injection wells located within the state (except all wells on Indian lands), as required by rule under the SDWA. The proposed rule grants Kentucky primary enforcement authority to prevent Class II (oil and gas-related) underground injection activities that endanger underground sources of drinking water. Accordingly, the agency proposes to codify the state's program in the Code of Federal Regulations (CFR) at 40 CFR part 147. EPA will continue to administer the UIC Program for injection well Classes I, III, IV, V and VI and wells on Indian lands, if any such lands exist in the state in the future. The agency has published a direct final rule in the “Rules and Regulations” section of today's Federal Register, approving the state's program because EPA views this approval as noncontroversial and anticipates no adverse comment. The agency provided reasons for the approval and additional supplementary information in the preamble to the direct final rule. If EPA receives no adverse comment, the agency will not take further action on this proposed rule. If EPA receives adverse comment, the agency will withdraw the direct final rule and it will not take effect. The agency would then address all public comments in any subsequent final rule based on this proposed rule. The agency does not intend to institute a second comment period on this action. Any parties interested in commenting must do so at this time. For further information, please contact the persons listed in the FOR FURTHER INFORMATION CONTACT section.

Dated: October 19, 2016.
Gina McCarthy,
Administrator.

[FR Doc. 2016-25929 Filed 10-27-16; 8:45 am]

BILLING CODE 6560-50-P